Title 3—

The President

Proclamation 10821 of September 30, 2024

National Arts and Humanities Month, 2024

By the President of the United States of America

A Proclamation

The arts and humanities bring people together and show us that we have more in common than we have differences—helping us see each other, understand one another, and unite in common cause. Our artists and scholars embody the very spirit of America: the drive to create and connect, the pursuit of excellence, and the boldness to be truthtellers and change seekers. During National Arts and Humanities Month, we celebrate the artists and scholars who lift us up, speak to our souls, and shape who we are as a Nation.

We are a great Nation, largely because of the power of the arts and humanities, which is stamped into the DNA of America. My Administration is committed to continuing the longstanding tradition of supporting the arts and humanities—including promoting freedom of expression as a part of a healthy democracy—and has worked to ensure people across the Nation have access to the connection and economic opportunities they provide. During the COVID-19 pandemic, when local venues like theaters and concert halls were struggling to stay open, we offered a lifeline of over $1 billion in funding. In 2022, I also signed an Executive Order to advance the cultural vitality of our country and ensure that access to the arts and humanities is within reach of every American. That included re-establishing the President's Committee on the Arts and the Humanities (PCAH) and appointing the First Lady as an honorary chair and Lady Gaga and Bruce Cohen as co-chairs. The Institute of Museum and Library Services (IMLS) recently celebrated the 10 recipients of the 2024 National Medal for Museum and Library Service, our Nation's highest honor given to museums and libraries that demonstrate excellence in service to their communities. The National Endowment for the Arts (NEA) also launched ArtsHere, a $10 million grant pilot program expected to announce nearly 100 awards for projects by local arts organizations working in underserved communities. And this year, the NEA—alongside policy experts at the White House, the Second Gentleman, and more—convened artists to demonstrate how the arts and humanities are critical infrastructure to our own well-being and the health of our democracy.

I believe deeply in the power of the arts and humanities to tell the story of our Nation and help guide our path toward a better Union. That is why the First Lady and I have hosted countless events that brought artists and performers here to the White House—from movie screenings and poetry readings to musical performances and a Juneteenth concert on the South Lawn. We have also honored a number of incredible artists and scholars by awarding the National Humanities Medals and National Medals of Arts and by hosting the Kennedy Center Honorees at the White House. These events and honors are a reminder of the value the arts and humanities bring to our lives and our Nation.

Our Administration is working with artists and scholars to ensure that hate has no safe harbor in America. As a part of our United We Stand Summit, the National Endowment for the Humanities (NEH) launched a joint initiative with the NEA called Connecting Through Culture to leverage the arts and humanities against hate-motivated violence, promote civic engagement, and encourage cross-cultural understanding. Building on the work of United We Stand, the PCAH, NEH, NEA, and IMLS also launched the Artists for Understanding initiative to bring together a diverse community of artists and humanitarians in the fight against hate. And the NEH has worked to support humanities and research programs that capture the good, bad, and truth of our Nation. From helping to document the oral histories of survivors and descendants of the Federal Indian Boarding School era to investing in programs that help protect and preserve America's Black history through Historically Black Colleges and Universities and supporting cultural institutions in the Pacific Islands, we show our commitment to understanding and learning from our past so that we can work together to build a better future.

Our Nation's artists, librarians, scholars, and museum professionals make us feel our humanity, reminding us of all that is possible when we come together. This month, may we celebrate American artists and scholars, who will always hold a special place in the soul of our Nation. And may we recommit to supporting the arts and humanities, which make us a stronger and more prosperous Nation.

NOW, THEREFORE, I, JOSEPH R. BIDEN JR., President of the United States of America, by virtue of the authority vested in me by the Constitution and the laws of the United States, do hereby proclaim October 2024 as National Arts and Humanities Month. I call on the people of the United States to observe this month with appropriate programs, ceremonies, and celebrations.

IN WITNESS WHEREOF, I have hereunto set my hand this thirtieth day of September, in the year of our Lord two thousand twenty-four, and of the Independence of the United States of America the two hundred and forty-ninth.

[FR Doc. 2024-22985

Filed 10-2-24; 8:45 am]

Billing code 3395-F4-P